DEPARTMENT OF LABOR

Employment and Training Administration

[TA-W-83,325]

Broadwind Towers, Inc.; Formerly Known as Tower Tech Systems, Inc.; Including On-Site Leased Workers From Advantage Staffing and SOS Staffing; Abilene, Texas; Amended Certification Regarding Eligibility To Apply for Worker Adjustment Assistance

In accordance with Section 223 of the Trade Act of 1974, as amended (“Act”), 19 U.S.C. 2273, the Department of Labor issued a Certification of Eligibility to Apply for Worker Adjustment Assistance on January 31, 2014, applicable to workers of Broadwind Towers, Inc., including on-site leased workers from Advantage Staffing and SOS Staffing, Abilene, Texas. The workers are engaged in activities related to the production of utility scale wind towers. The notice was published in the Federal Register on February 24, 2014 (79 FR 10187).

At the request of Texas State, the Department reviewed the certification for workers of the subject firm. The subject firm originally named Tower Tech Systems, Inc. was renamed Broadwind Towers, Inc. on March 1, 2011. Texas State reports that some workers separated from employment at the Abilene, Texas location of Broadwind Towers, Inc. had their wages reported through a separate Unemployment Insurance (UI) tax account under the name Tower Tech Systems, Inc.

Accordingly, the Department is amending this certification to include workers of the subject firm whose unemployment insurance (UI) wages are reported through Tower Tech Systems, Inc.

The intent of the Department's certification is to include all workers of the subject firm who were adversely affected on the basis of an International Trade Commission (ITC) finding of injury.

The amended notice applicable to TA-W-83,325 is hereby issued as follows:

All workers from Broadwind Towers, Inc., formerly known as Tower Tech Systems, Inc., including on-site leased workers from Advantage Staffing and SOS Staffing, Abilene, Texas, who became totally or partially separated from employment on or after February 13, 2012 through February 13, 2014, are eligible to apply for adjustment assistance under Chapter 2 of Title II of the Trade Act of 1974, as amended.

Signed at Washington, DC, this 19th day of March 2014.
Del Min Amy Chen,
Certifying Officer, Office of Trade Adjustment Assistance.

[FR Doc. 2014-07752 Filed 4-7-14; 8:45 am]

BILLING CODE 4510-FN-P